DEPARTMENT OF DEFENSE

Department of the Navy

Notice of Closed Meeting of the Chief of Naval Operations Executive Panel

AGENCY: Department of the Navy, DoD.

ACTION: Notice; correction.

SUMMARY: The Department of the Navy published a document in the Federal Register on October 2, 2008, announcing a closed meeting of the Chief of Naval Operations Executive Panel. The original publication contained incorrect information.

FOR FURTHER INFORMATION CONTACT: CDR David Di Tallo, CNO Executive Panel, 4825 Mark Center Drive, Alexandria, VA 22311, telephone: 703-681-4908.

Correction

In the Federal Register of October 2, 2008, in FR Doc. E8-23227, make the following changes:

1. In the first column, on page 57342, correct the SUMMARY caption to read as follows:

“SUMMARY: The Chief of Naval Operations (CNO) Executive Panel will report on the findings and recommendations of the Subcommittee on Africa to the Chief of Naval Operations. The matters to be discussed during the meeting have been divided into the following four categories: Threats to U.S. security and interests in Africa; political, economic, and security assessments of key African nations and institutions; U.S. Navy security cooperation and engagement strategies; and a conclusion/summary of the classified discussions.

The CNO Executive Panel will report on the findings and recommendations of the Subcommittee on the Navy's Next Big Thing to the Chief of Naval Operations. The matters to be discussed during the meeting have been divided into the following three categories: Technological, organizational, and process related; and a conclusion/summary of the classified discussions.

Each topic under each of these headings is classified either secret or confidential, which makes this information exempt from open meeting disclosure pursuant to 5 U.S.C. Section 552b(c)(1).”

2. In the first column, on page 57342, correct the DATES caption to read as follows:

DATES: The meeting will be held on October 27, 2008 from 8:30 a.m. to 4:30 p.m. and 12 p.m. to 2 p.m.

Dated: October 21, 2008.
T. M. Cruz
Lieutenant Commander, Judge Advocate Generals Corps, U.S. Navy, Federal Register Liaison Officer.

[FR Doc. E8-25541 Filed 10-24-08; 8:45 am]

BILLING CODE 3810-FF-P